DEPARTMENT OF EDUCATION

Applications for New Awards; Educational Technology, Media, and Materials for Individuals With Disabilities—Stepping-up Technology Implementation

AGENCY: Office of Special Education and Rehabilitative Services, Department of Education.

ACTION: Notice.

SUMMARY: The Department of Education is issuing a notice inviting applications for new awards for fiscal year (FY) 2018 for Educational Technology, Media, and Materials for Individuals with Disabilities—Stepping-up Technology Implementation, Catalog of Federal Domestic Assistance (CFDA) number 84.327S.

DATES:

Applications Available: July 3, 2018.

Deadline for Transmittal of Applications: August 2, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Terry Jackson, U.S. Department of Education, 400 Maryland Avenue SW, Room 5158, Potomac Center Plaza, Washington, DC 20202-5076. Telephone: (202) 245-6039.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Educational Technology, Media, and Materials for Individuals with Disabilities Program are to: (1) Improve results for students with disabilities by promoting the development, demonstration, and use of technology; (2) support educational activities designed to be of educational value in the classroom for students with disabilities; (3) provide support for captioning and video description that is appropriate for use in the classroom; and (4) provide accessible educational materials to students with disabilities in a timely manner.¹

¹ Applicants should note that other laws, including the Americans with Disabilities Act of 1990 (42 U.S.C. 12101 et seq.; 28 CFR part 35) and section 504 of the Rehabilitation Act of 1973 (29 U.S.C. 794; 34 CFR part 104), may require that State educational agencies and local educational agencies provide captioning, video description, and other accessible educational materials to students with disabilities when such materials are necessary to provide students with disabilities with equally integrated and equally effective access to the benefits of the educational program or activity, or as part of a “free appropriate public education” as defined in the Department of Education's Section 504 regulation.

Priority: In accordance with 34 CFR 75.105(b)(2)(v), the absolute priority and the competitive preference priority within this priority are from allowable activities specified in sections 674(c)(1)(D) and 681(d) of the Individuals with Disabilities Education Act (IDEA), 20 U.S.C. 1474(c)(1)(D) and 1481(d).

Absolute Priority: For FY 2018 and any subsequent year in which we make awards from the list of unfunded applications from this competition, this priority is an absolute priority. Under 34 CFR 75.105(c)(3), we consider only applications that meet this priority.

This priority is: Stepping-up Technology Implementation.

Background:

The mission of the Office of Special Education and Rehabilitative Services (OSERS) is to improve early childhood, educational, and employment outcomes and raise expectations for all people with disabilities, their families, their communities, and the Nation.

The purpose of this priority is to fund three cooperative agreements to: identify strategies needed to effectively implement evidence-based (as defined in this notice) technology tools ² that benefit students with disabilities and children or students with high needs,³ and develop and disseminate products ⁴ that will help a broad range of sites to effectively implement these technology tools. This priority is consistent with Priority 5 of the Secretary's Final Supplemental Priorities and Definitions for Discretionary Grant Programs (Supplemental Priorities) ⁵—Meeting the Unique Needs of Students and Children With Disabilities and/or Those With Unique Gifts and Talents; and Priority 2 of the Supplemental Priorities—Promoting Innovation and Efficiency, Streamlining Education With an Increased Focus on Improving Student Outcomes, and Providing Increased Value to Students and Taxpayers. Priority 5 emphasizes meeting the unique needs of students with disabilities, including their academic needs, by offering students the opportunity to meet challenging objectives and receive an educational program that is both meaningful and appropriately ambitious in light of each student's circumstances. Priority 2 emphasizes supporting innovative strategies or research that has the potential to lead to significant and wide-reaching improvements in the delivery of educational services or other significant and tangible educational benefits to students, educators, or other Department stakeholders.

² For the purposes of this priority, “technology tools” may include, but are not limited to, digital math text readers for students with visual impairments, reading software to improve literacy and communication development, and text-to-speech software to improve reading performance. These tools must assist or otherwise benefit students with disabilities.

³ For the purposes of this priority, “children or students with high needs” means children or students at risk of educational failure or otherwise in need of special assistance or support, such as children and students who are living in poverty, who are English Learners, who are academically far below grade level, who have left school before receiving a regular high school diploma, who are at risk of not graduating with a regular high school diploma on time, who are homeless, who are in foster care, who have been incarcerated, or are children or students with disabilities.

⁴ For the purposes of this priority, “products” may include, but are not limited to, instruction manuals, lesson plans, demonstration videos, ancillary instructional materials, and professional development modules such as collaborative groups, coaching, mentoring, or online supports.

⁵ The Secretary's Final Supplemental Priorities and Definitions for Discretionary Grant Programs was published in the Federal Register on March 2, 2018 (83 FR 9096) and can be found at www.gpo.gov/fdsys/pkg/FR-2018-03-02/pdf/2018-04291.pdf.

Congress recognized in IDEA that “almost 30 years of research and experience has demonstrated that the education of children with disabilities can be made more effective by . . . supporting the development and use of technology, including assistive technology devices and assistive technology services, to maximize accessibility for children with disabilities” (section 601(c)(5) of IDEA).

The use of technology, including assistive technology devices and assistive technology services, enhances instruction and access to the general education curriculum. “Innovative technology tools, programs, and software can be used to promote engagement and enhance the learning experience” (Brunvand & Byrd, 2011). Innovative technology tools and programs are especially helpful as educators work to engage and motivate students who struggle with the general education curriculum. However, having access alone does not translate to outcomes. Judge et al. (2004) argued that there is a rapid expansion in technology in early childhood settings, and teachers need support in understanding its usage and value to ensure quality learning experiences for young students. When teachers receive the necessary professional development supports to use technology effectively, technology integration in early childhood settings has been demonstrated to increase social awareness and collaborative behaviors, improve abstract reasoning and problem solving abilities, and enhance visual-motor coordination (McManis & Gunnewig, 2012).

Technologies (e.g., online career-readiness tools, computer-based writing tools to support literacy, web-based curriculum to support 21st-century learning) can support State educational agencies (SEAs) and local educational agencies (LEAs) by: (a) Improving student learning and engagement; (b) accommodating the special needs of students; (c) facilitating student and teacher access to digital content and resources; and (d) improving the quality of instruction through personalized learning and data (Duffey & Fox, 2012; Fletcher, Schaffhauser, & Levi, 2012; U.S. Department of Education, 2010). As stipulated in section 4109 of the Elementary and Secondary Education Act of 1965, as amended by the Every Student Succeeds Act (ESSA), technologies can be used to support LEAs and SEAs to increase student access to personalized, rigorous learning experiences.

Notwithstanding the potential benefits of using technology to improve learning outcomes, research suggests that implementation can be a significant challenge. For example, data from a survey of more than 1,000 kindergarten through grade 12 (K-12) teachers, principals, and assistant principals indicated that more than half of teachers who did not use technology identified issues of implementation (e.g., necessity, applicability to lessons) rather than availability as reasons for their non-use (Grunwald & Associates, 2010). Additionally, “research indicates that technology must be used in ways that align with curricular and teacher goals, and offer students opportunities to use these tools in their learning” (Center on Innovation and Improvement, 2011). Even as schools have started to deliver coursework online, and the number of students involved in online learning has grown, many of these online learning technologies are not readily accessible to students with disabilities (Center on Online Learning and Students with Disabilities, 2012). These findings demonstrate a need for products and resources that can assist educators to readily implement technology tools for students with disabilities.

In response to this need, Stepping-up Technology Implementation projects have built on technology development efforts by identifying, developing, and disseminating products and resources that promote the effective implementation ⁶ of instructional and assistive technology tools in early childhood programs or K-12 settings.⁷

⁶ In this context, “effective implementation” means “making better use of research findings in typical service settings through the use of processes and activities (such as accountable implementation teams) that are purposeful and described in sufficient detail such that independent observers can detect the presence and strength of these processes and activities” (Fixsen, Naoom, Blase, Friedman, & Wallace, 2005).

⁷ For the purposes of this priority, “settings” include: General education classrooms; special education classrooms; high-quality early childhood programs; private schools; home education; after school programs; juvenile justice facilities; and settings other than those listed above in which students may receive services under IDEA.

Priority:

The purpose of this priority is to fund three cooperative agreements to: (a) Identify strategies needed to readily implement existing evidence-based technology tools that benefit students with disabilities and children or students with high needs; and (b) develop and disseminate products (See footnote 3; e.g., instruction manuals, lesson plans, demonstration videos, ancillary instructional materials) that will assist personnel in early childhood programs or K-12 settings to readily use, understand, and implement these technology tools.

To be considered for funding under this priority, applicants must meet the application requirements. Any project funded under this absolute priority must also meet the programmatic and administrative requirements specified in the priority.

Application Requirements

An applicant must include in its application—

(a) A project design that is evidence-based;

(b) A logic model (as defined in this notice) or conceptual framework that depicts at a minimum, the goals, activities, project evaluation, methods, performance measures, outputs, and outcomes of the proposed project.

Note: The following websites provide more information on logic models and conceptual frameworks: www.osepideasthatwork.org/logicModel; www.osepideasthatwork.org/resources-grantees/program-areas/ta-ta/tad-project-logic-model-and-conceptual-framework; www2.ed.gov/policy/elsec/leg/essa/guidanceuseseinvestment.pdf; and http://ies.ed.gov/pubsearch/pubsinfo.asp?pubid=REL2015057.

(c) A plan to implement the activities described in the Project Activities section of this priority;

(d) A plan, linked to the proposed project's logic model, for a formative evaluation of the proposed project's activities. The plan must describe how the formative evaluation will use clear performance objectives to ensure continuous improvement in the operation of the proposed project, including objective measures of progress in implementing the project and ensuring the quality of products and services;

(e) Documentation ensuring that the final products disseminated to help sites effectively implement technology tools will be both open educational resources (OER) ⁸ and licensed through an open access licensing authority;

⁸ Open educational resources (OER) are teaching and learning materials that the public may freely use and reuse at no cost. Unlike fixed, copyrighted resources, OER have been authored or created by an individual or organization that chooses to retain few, if any, ownership rights. Retrieved from www.oercommons.org/about.

(f) Documentation that the technology tool used by the project is fully developed,⁹ evidence-based, and addresses, at a minimum, the following principles of universal design for learning:

⁹ A technology that is “fully developed” is a completed, existing technology that is ready to be implemented. Any enhancements or additions to the existing technology should be minor and time-limited, and must be completed before the end of year two.

(1) Multiple means of presentation so that students can approach information in more than one way (e.g., specialized software and websites, screen readers that include features such as text-to-speech, changeable color contrast, alterable text size, or selection of different reading levels);

(2) Multiple means of expression so that all students can demonstrate knowledge through options such as writing, online concept mapping, or speech-to-text programs, where appropriate; and

(3) Multiple means of engagement to stimulate interest in and motivation for learning (e.g., options among several different learning activities or content for a particular competency or skill and providing opportunities for increased collaboration or scaffolding); ¹⁰

¹⁰ For more information on the principles of universal design, see www.udlcenter.org/aboutudl/whatisudl/3principles.

(g) A plan for how the project will sustain project activities after funding ends;

(h) A plan, which includes appropriate consideration of sites other than traditional public elementary and secondary school settings, including private schools, after school programs, juvenile justice facilities, early childhood programs, and settings where students are supported under IDEA, for recruiting and selecting ¹¹ the following:

¹¹ For more information on recruiting and selecting sites, refer to Assessing Sites for Model Demonstration: Lessons Learned from OSEP Grantees at http://mdcc.sri.com/documents/MDCC_Site_Assessment_Brief_09-30-11.pdf.

(1) Three development sites. Development sites are the sites in which iterative development ¹² of the products and resources intended to support the implementation of technology tools will occur. The project must start implementing the technology tool with one development site in year one of the project period and two additional development sites in year two;

¹² For the purposes of this priority, “iterative development” refers to a process of testing, systematically securing feedback, and then revising the educational intervention to increase the likelihood that it will be implemented with fidelity (Diamond & Powell, 2011).

(2) Four pilot sites. Pilot sites are the sites in which try-out, formative evaluation, and refinement of the products and resources will occur. The project must work with the four pilot sites during years three and four of the project period; and

(3) Ten dissemination sites. Dissemination sites will be selected if the project is extended for a fifth year. Dissemination sites will be used to (a) refine the products for use by teachers and (b) evaluate the performance of the tool. Dissemination sites will receive less technical assistance (TA) from the project than development or pilot sites. Also, at this stage (i.e., the fifth year), dissemination sites will extend the benefits of the technology tool to additional students. To be selected as a dissemination site, eligible sites must commit to working with the project to implement the evidence-based technology tool.

Note: A site may not serve in more than one category (i.e., development, pilot, dissemination).

Note: A minimum of two of the seven development and pilot sites must be in settings other than traditional public elementary and secondary schools. A minimum of three of the 10 dissemination sites must be in settings other than traditional public elementary and secondary schools. These non-traditional sites must otherwise meet the requirements of each category listed earlier.

(i) School site information (e.g., elementary, middle, high school, or early childhood programs, high-quality early childhood programs, private schools, after school programs, juvenile justice facilities, and settings where students are supported under IDEA; schools identified for comprehensive or targeted support and improvement (in accordance with section 1111(c)(4)(C)(iii), (c)(4)(D), or (d)(2)(C)-(D) of the ESEA) about the development, pilot, and dissemination sites, including student demographics (e.g., race or ethnicity, percentage of students eligible for free or reduced-price lunch) and other pertinent data; and

(j) A budget for attendance at the following:

(1) A one and one-half day kick-off meeting to be held in Washington, DC, after receipt of the award, and an annual planning meeting held in Washington, DC, with the Office of Special Education Programs (OSEP) project officer and other relevant staff during each subsequent year of the project period.

Note: Within 30 days of receipt of the award, a post-award teleconference must be held between the OSEP project officer and the grantee's project director or other authorized representative.

(2) A three-day project directors' conference in Washington, DC, during each year of the project period.

(3) Two annual two-day trips to attend Department briefings, Department-sponsored conferences, and other meetings, as requested by OSEP.

Project Activities:

To meet the requirements of this priority, the project, at a minimum, must conduct the following activities:

(a) Recruit a minimum of three development sites and four pilot sites in accordance with the plan proposed under paragraphs (h) and (i) of the Application Requirements section of this notice.

Note: Final site selection will be determined in consultation with the OSEP project officer following the kick-off meeting.

(b) Identify and develop resources and products that, when used to support the implementation of the technology tool, create accessible learning opportunities for all children, including children with disabilities, and children or students with high needs and support the sustained implementation of the selected technology tool. Development of the products must be an iterative process beginning in a single development school and continuing through repeated cycles of development and refinement in the other development sites, followed by a formative evaluation and refinement in the pilot sites. To support implementation of the technology tool the products and resources must, at a minimum, include:

(1) An instrument or method for assessing—

(i) The school staff's current technology uses and needs, current technology investments, firewall issues, and the knowledge and availability of dedicated on-site technology personnel;

(ii) The readiness of development and pilot sites to implement the technology tool. Any instruments and methods for assessing readiness may include resource inventory checklists, school self-study guides, and surveys of teachers' interests; and

(iii) Whether the technology tool has achieved its intended outcomes.

(c) Provide ongoing professional development activities necessary for teachers to implement the technology tool with fidelity and to integrate it into the curriculum.

(d) Collect and analyze data on whether the technology tool has achieved its intended outcomes for early childhood development, K-12, or college- and career-readiness.

(e) Collect formative and summative data from the development and pilot sites to refine and evaluate the products.

(f) If the project is extended to a fifth year—

(1) Provide the products and the technology tool to no fewer than 10 dissemination sites that are not the same used as development or pilot sites; and

(2) Collect summative data about the success of the project's products and services in supporting implementation of the technology tool in the dissemination sites.

(g) By the end of the project period, provide—

(1) Information on the products and resources, as supported by the project evaluation, including any accessibility features, that will enable other sites to implement and sustain implementation of the technology tool;

(2) Information on the technology implementation report, including data on how teachers used the technology, data on how technology impacted student outcomes, how technology was implemented with fidelity, and features of universal design for learning;

(3) Information on how the technology tool contributed to changed practices and improved early childhood outcomes, academic achievement, or college- and career-readiness for children with disabilities, as well as children or students with high needs (e.g., data to assess how well the project addressed the goals of the project as described in the logic model); and

(4) A plan for disseminating the technology tool and accompanying products beyond the sites directly involved in the project.

Cohort Collaboration and Support

OSEP project officer(s) will provide coordination support among the projects. Each project funded under this priority must:

(a) Participate in monthly conference-call discussions to share and collaborate on implementation and specific project issues; and

(b) Provide information annually using a template that captures descriptive data on project site selection, processes for installation of technology, and the use of technology and sustainability (i.e., the process of technology implementation).

Note: The following website provides more information about implementation research: http://nirn.fpg.unc.edu/learn-implementation.

Fifth Year of Project

The Secretary may extend a project one year beyond 48 months to work with dissemination sites if the grantee is achieving the intended outcomes of the project (as demonstrated by data gathered as part of the project evaluation) and making a positive contribution to the implementation of an evidence-based technology tool with fidelity in the development and pilot sites. Each applicant must include in its application a plan for the full 60-month period. In deciding whether to continue funding the project for the fifth year, the Secretary will consider the requirements of 34 CFR 75.253(a), and will consider:

(a) The recommendation of a review team consisting of the OSEP project officer and other experts selected by the Secretary. This review will be held during the last half of the third year of the project period;

(b) The success and timeliness with which the requirements of the negotiated cooperative agreement have been or are being met by the project; and

(c) The degree to which the project's activities have contributed to changed practices and improved early childhood outcomes, academic achievement, or college- and career-readiness for students with disabilities.

Competitive Preference Priority: Within this absolute priority, we give competitive preference to applications that address the following priority. The competitive preference priority is from allowable activities in sections 674(c)(1)(D) and 681(d) of IDEA. Under 34 CFR 75.105(c)(2)(i), we award an additional two points to an application that meets the competitive preference priority. Applicants should indicate in the abstract if the competitive preference priority is addressed and must address the priority in the narrative section.

This competitive preference priority is:

Projects that Support English Learners in Reading (Two Points).

To meet this competitive preference priority, projects must implement an evidence-based technology tool designed to help teachers use culturally responsive teaching practices ¹³ to meet the cultural and linguistic needs of English Learners (ELs) and improve their language acquisition, language development, and reading. To meet the competitive preference priority, a project must:

¹³ Culturally responsive teaching practices can be defined as “using the cultural knowledge, prior experiences, frames of reference, and performance styles of ethnically diverse students to make learning encounters more relevant to and effective for them” (Gay, 2010).

(a) Implement a culturally responsive reading curriculum that provides learning opportunities through a variety of media; and

(b) Develop and disseminate products and resources (e.g., instruction manuals, lesson plans, demonstration videos, ancillary instructional materials) that will assist teachers in K-12 settings to implement the technology.

References:

Brunvand, S., & Byrd, S. (2011). Using VoiceThread to promote learning engagement and success for all students. Teaching Exceptional Children, 43(4), 28-37.

Center on Online Learning and Students with Disabilities (COLSD). (2012). The foundation of online learning for students with disabilities (COLSD White Paper). Lawrence, KS: Author. Retrieved from www.centerononlinelearning.res.ku.edu/wp-content/uploads/2017/04/Foundation_7_2012.pdf.

Diamond, K.E., & Powell, D.R. (2011). An iterative approach to the development of a professional development intervention for Head Start teachers. Journal of Early Intervention, 33(1), 75-93.

Duffey, D., & Fox, C. (2012). National educational technology trends 2012: State leadership empowers educators, transforms teaching and learning. Washington, DC: State Educational Technology Directors Association. Retrieved from https://eric.ed.gov/PDFS/ED536746.pdf.

Fixsen, D.L., Naoom, S.F., Blase, K.A., Friedman, R.M., & Wallace, F. (2005). Implementation research: A synthesis of the literature (FMHI Publication #231). Tampa, FL: University of South Florida, Louis de la Parte Florida Mental Health Institute, The National Implementation Research Network.

Fletcher, G., Schaffhauser, D. & Levi, D. (2012). Out of print: Reimagining the K-12 textbook in a digital age. Washington, DC: State Educational Technology Directors Association. Retrieved from http://files.eric.ed.gov/fulltext/ED536747.pdf.

Gay, G. (2010). Culturally responsive teaching: Theory, research, and practice (2nd ed.). New York, NY: Teachers College Press.

Grunwald & Associates. (2010). Educators, technology, and 21st century skills: Dispelling five myths. Minneapolis, MN: Walden University, Richard W. Riley College of Education. Retrieved from www.waldenu.edu/-/media/Walden/general-media/about-walden/colleges-and-schools/riley-college-of-education/educational-research/full-report-dispelling-five-myths.pdf?la=en.

Judge, S., Puckett, K., & Cabuck, B. (2004). Digital equity: New findings from the Early Childhood Longitudinal Study. Journal of Research on Technology in Education, 36(4), 383-396.

McManis, L.D., & Gunnewig, S.B. (2012). Finding the education in educational technology with early learners. Young Children, 67(3), 14-24.

Perlman, C.L., & Redding, S. (Eds.). (2011). Handbook on effective implementation of school improvement grants. Lincoln, IL: Center on Innovation and Improvement. Retrieved from www.centerii.org/handbook.

U.S. Department of Education, Office of Educational Technology. (2010). Transforming American education: Learning powered by technology. Washington, DC: Author. Retrieved from www.ed.gov/sites/default/files/netp2010.pdf.

Definitions: The following definitions are from 34 CFR 77.1:

Demonstrates a rationale means a key project component included in the project's logic model is informed by research or evaluation findings that suggest the project component is likely to improve relevant outcomes.

Evidence-based means the proposed project component is supported by one or more of strong evidence, moderate evidence, promising evidence, or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1 or 3.0 of the WWC Handbook reporting a “strong evidence base” or “moderate evidence base” for the corresponding practice guide recommendation;

(ii) An intervention report prepared by the WWC using version 2.1 or 3.0 of the WWC Handbook reporting a “positive effect” or “potentially positive effect” on a relevant outcome based on a “medium to large” extent of evidence, with no reporting of a “negative effect” or “potentially negative effect” on a relevant outcome; or

(iii) A single experimental study or quasi-experimental design study reviewed and reported by the WWC using version 2.1 or 3.0 of the WWC Handbook, or otherwise assessed by the Department using version 3.0 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Relevant outcome means the student outcome(s) or other outcome(s) the key project component is designed to improve, consistent with the specific goals of the program.

Strong evidence means that there is evidence of the effectiveness of a key project component in improving a relevant outcome for a sample that overlaps with the populations and settings proposed to receive that component, based on a relevant finding from one of the following:

(i) A practice guide prepared by the WWC using version 2.1 or 3.0 of the WWC Handbook reporting a “strong evidence base” for the corresponding practice guide recommendation;

(ii) An intervention report prepared by the WWC using version 2.1 or 3.0 of the WWC Handbook reporting a “positive effect” on a relevant outcome based on a “medium to large” extent of evidence, with no reporting of a “negative effect” or “potentially negative effect” on a relevant outcome; or

(iii) A single experimental study reviewed and reported by the WWC using version 2.1 or 3.0 of the WWC Handbook, or otherwise assessed by the Department using version 3.0 of the WWC Handbook, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1474 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: $1,500,000.

Contingent upon the availability of funds and the quality of applications, we may make additional awards in FY 2019 from the list of unfunded applications from this competition.

Estimated Range of Awards: $450,000 to $500,000 per year.

Estimated Average Size of Awards: $475,000 per year.

Maximum Award: We will not make an award exceeding $500,000 for a single budget period of 12 months.

Estimated Number of Awards: 3.

Note: The Department is not bound by any estimates in this notice.

Project Period: Up to 48 months.

III. Eligibility Information

1. Eligible Applicants: SEAs; LEAs, including public charter schools that operate as LEAs under State law; IHEs; other public agencies; private nonprofit organizations; freely associated States and outlying areas; Indian Tribes or Tribal organizations; and for-profit organizations.

2. Cost Sharing or Matching: This program does not require cost sharing or matching.

3. Subgrantees: Under 34 CFR 75.708(b) and (c) a grantee under this competition may award subgrants—to directly carry out project activities described in its application—to the following types of entities: IHEs and private nonprofit organizations suitable to carry out the activities proposed in the application. The grantee may award subgrants to entities it has identified in an approved application.

4. Other: (a) Recipients of funding under this competition must make positive efforts to employ and advance in employment qualified individuals with disabilities (see section 606 of IDEA).

(b) Each applicant for, and recipient of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This competition is subject to Executive Order 12372 and the regulations in 34 CFR part 79. However, under 34 CFR 79.8(a), we waive intergovernmental review in order to make awards by the end of FY 2018.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The significance of the problem or issue to be addressed by the proposed project;

(ii) The magnitude or severity of the problem to be addressed by the proposed project;

(iii) The extent to which specific gaps or weaknesses in services, infrastructure, or opportunities have been identified and will be addressed by the proposed project, including the nature and magnitude of those gaps or weaknesses;

(iv) The potential contribution of the proposed project to increased knowledge or understanding of educational problems, issues, or effective strategies; and

(v) The potential replicability of the proposed project or strategies, including, as appropriate, the potential for implementation in a variety of settings.

(b) Quality of project services (25 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age or disability.

(3) In addition, the Secretary considers the following factors:

(i) The extent to which the services to be provided by the proposed project reflect up-to-date knowledge from research and effective practice;

(ii) The extent to which the training or professional development services to be provided by the proposed project are of sufficient quality, intensity, and duration to lead to improvements in practice among the recipients of those services;

(iii) The extent to which the services to be provided by the proposed project involve the collaboration of appropriate partners for maximizing the effectiveness of project services;

(iv) The extent to which the services to be provided by the proposed project are appropriate to the needs of the intended recipients or beneficiaries of those services; and

(v) The likely impact of the services to be provided by the proposed project on the intended recipients of those services.

(c) Quality of the project design (20 points).

(1) The Secretary considers the quality of the design of the proposed project.

(2) In determining the quality of the design of the proposed project, the Secretary considers the following factors:

(i) The extent to which the goals, objectives, and outcomes to be achieved by the proposed project are clearly specified and measurable;

(ii) The extent to which the design of the proposed project includes a thorough, high-quality review of the relevant literature, a high-quality plan for project implementation, and the use of appropriate methodological tools to ensure successful achievement of project objectives;

(iii) The extent to which the design of the proposed project is appropriate to, and will successfully address, the needs of the target population or other identified needs;

(iv) The extent to which the design for implementing and evaluating the proposed project will result in information to guide possible replication of project activities or strategies, including information about the effectiveness of the approach or strategies employed by the project; and

(v) The extent to which there is a conceptual framework underlying the proposed research or demonstration activities and the quality of that framework.

(d) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator, and other key project personnel are appropriate and adequate to meet the objectives of the proposed project;

(iii) The adequacy of mechanisms for ensuring high-quality products and services from the proposed project;

(iv) How the applicant will ensure that a diversity of perspectives are brought to bear in the operation of the proposed project, including those of parents, teachers, the business community, a variety of disciplinary and professional fields, recipients or beneficiaries of services, or others, as appropriate; and

(v) The adequacy of procedures for ensuring feedback and continuous improvement in the operation of the proposed project.

(e) Adequacy of resources (10 points).

(1) The Secretary considers the adequacy of resources for the proposed project.

(2) In determining the adequacy of resources for the proposed project, the Secretary considers the following factors:

(i) The adequacy of support, including facilities, equipment, supplies, and other resources, from the applicant organization or the lead applicant organization;

(ii) The relevance and demonstrated commitment of each partner in the proposed project to the implementation and success of the project;

(iii) The extent to which the budget is adequate to support the proposed project;

(iv) The extent to which the costs are reasonable in relation to the objectives, design, and potential significance of the proposed project; and

(v) The extent to which the costs are reasonable in relation to the number of persons to be served and to the anticipated results and benefits.

(f) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation include the use of objective performance measures that are clearly related to the intended outcomes of the project and will produce quantitative and qualitative data to the extent possible;

(iii) The extent to which the methods of evaluation provide for examining the effectiveness of project implementation strategies;

(iv) The extent to which the methods of evaluation will provide performance feedback and permit periodic assessment of progress toward achieving intended outcomes; and

(v) The extent to which the evaluation plan clearly articulates the key project components, mediators, and outcomes, as well as a measurable threshold for acceptable implementation.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Under the Government Performance and Results Act of 1993, the Department has established a set of performance measures, including long-term measures, that are designed to yield information on various aspects of the effectiveness and quality of the Educational Technology, Media, and Materials for Individuals with Disabilities program. These measures are included in the application package and focus on the extent to which projects are of high quality, are relevant to improving outcomes of children with disabilities, as well as children with high-needs, and generate evidence of validity and availability to appropriate populations. Projects funded under this competition are required to submit data on these measures as directed by OSEP.

Grantees will be required to report information on their project's performance in annual performance reports and additional performance data to the Department (34 CFR 75.590 and 75.591).

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5113, Potomac Center Plaza, Washington, DC 20202-2500. Telephone: (202) 245-7363. If you use a TDD or a TTY, call the FRS, toll free, at 1-800-877-8339.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 28, 2018.
Johnny W. Collett,
Assistant Secretary for Special Education and Rehabilitative Services.

[FR Doc. 2018-14338 Filed 7-2-18; 8:45 am]

BILLING CODE 4000-01-P